DEPARTMENT OF ENERGY

Federal Energy Regulatory Commission

[Project Nos. 14803-001; 2082-063]

PacifiCorp and Klamath River Renewal Corporation; Notice of Application for Surrender of License, Soliciting Comments, Motions To Intervene, and Protests

December 16, 2020.

Take notice that the following hydroelectric application has been filed with the Commission and is available for public inspection:

a. Application Type: Surrender of Project License.

b. Project No: 14803-001 and 2082-063.

c. Date Filed: September 23, 2016, and supplemented June 29, 2018; July 29, 2019; February 28, 2020; and November 17, 2020.

d. Applicant: PacifiCorp and Klamath River Renewal Corporation.

e. Name of Project: Lower Klamath Hydroelectric Project.

f. Location: The project is located on the Klamath River in Klamath County, Oregon and Siskiyou County, California. The project includes federal lands managed by the U.S. Bureau of Land Management.

g. Filed Pursuant to: Federal Power Act, 16 U.S.C. 791a-825r.

h. Applicant Contact: Mark Bransom, Chief Executive Officer, Klamath River Renewal Corporation, 2001 Addison Street, Suite 317, Berkeley, CA 94704, (415) 820-4441, info@klamathrenewal.org. Sarah Kamman, Vice President and General Counsel, PacifiCorp, 825 NE Multnomah Street, Suite 2000, Portland, OR 97232, (503) 813-5865, sarah.kamman@pacificorp.com.

i. FERC Contact: Diana Shannon, (202) 502-6136, diana.shannon@ferc.gov.

j. Deadline for filing comments, motions to intervene, and protests: February 15, 2021.

The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket numbers P-14803-001 and P-2082-063. Comments emailed to Commission staff are not considered part of the Commission record.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Description of Request: The Klamath River Renewal Corporation (Renewal Corporation) and PacifiCorp request to surrender the license for and decommission the Lower Klamath Project No. 14803 (project). Decommissioning activities would include the full removal of the J.C. Boyle, Copco No. 1, Copco No. 2 and Iron Gate dams, located on the mainstem Klamath River in Klamath County, Oregon and Siskiyou County, California.

On July 16, 2020, the Commission issued an order approving a partial transfer of the license for the project from PacifiCorp to PacifiCorp and the Renewal Corporation as co-licensees. In the amended surrender application filed on November 17, 2020, PacifiCorp and the Renewal Corporation indicated that they will not be accepting co-licensee status. PacifiCorp and the Renewal Corporation state that they intend to file a new transfer application by January 16, 2021, requesting that the Lower Klamath Project be transferred from PacifiCorp to the Renewal Corporation and the states of California and Oregon, for the purposes of license surrender and decommissioning the four developments.

Also included in the November 17 filing was a Memorandum of Agreement entered into by PacifiCorp, the Renewal Corporation, the Karuk Tribe, the Yurok Tribe, and the states of California and Oregon indicating the parties' support for the new transfer proposal to be filed by January 16, 2021.

With PacifiCorp's consent and technical support, the Renewal Corporation will act as the proponent of the surrender application and is authorized to act as the Commission's non-federal representative in ongoing consultations.

l. Locations of the Application: This filing may be viewed on the Commission's website at http://www.ferc.gov using the eLibrary link. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. Agencies may obtain copies of the application directly from the applicant.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214, respectively. In determining the appropriate action to take, the Commission will consider all protests or other comments filed, but only those who file a motion to intervene in accordance with the Commission's Rules may become a party to the proceeding. Any comments, protests, or motions to intervene must be received on or before the specified comment date for the particular application.

o. Filing and Service of Documents: Any filing must (1) bear in all capital letters the title COMMENTS, PROTEST, or MOTION TO INTERVENE as applicable; (2) set forth in the heading the name of the applicant and the project number of the application to which the filing responds; (3) furnish the name, address, and telephone number of the person commenting, protesting or intervening; and (4) otherwise comply with the requirements of 18 CFR 385.2001 through 385.2005. All comments, motions to intervene, or protests must set forth their evidentiary basis. Any filing made by an intervenor must be accompanied by proof of service on all persons listed in the service list prepared by the Commission in this proceeding, in accordance with 18 CFR 385.2010.

Dated: December 16, 2020.
Kimberly D. Bose,
Secretary.

[FR Doc. 2020-28240 Filed 12-21-20; 8:45 am]

BILLING CODE 6717-01-P